DEPARTMENT OF COMMERCE

International Trade Administration

[A-570-909]

Certain Steel Nails from the People's Republic of China: Initiation of Antidumping Duty New Shipper Review

AGENCY: Import Administration, International Trade Administration, Department of Commerce.

EFFECTIVE DATE: October 4, 2010.

SUMMARY: The Department of Commerce (“Department”) has determined that a request for a new shipper review (“NSR”) of the antidumping duty order on certain steel nails (“steel nails”) from the People's Republic of China (“PRC”), received on August 27, 2010, meets the statutory and regulatory requirements for initiation. The period of review (“POR”) for this NSR is August 1, 2009, through July 31, 2010.

FOR FURTHER INFORMATION CONTACT: Emeka Chukwudebe, AD/CVD Operations, Office 9, Import Administration, International Trade Administration, U.S. Department of Commerce, 14th Street and Constitution Avenue, NW, Washington, DC 20230; telephone: 202-482-0219.

SUPPLEMENTARY INFORMATION:

Background

The notice announcing the antidumping duty order on certain steel nails from the PRC was published in the Federal Register on August 1, 2008. See Notice of Antidumping Duty Order: Certain Steel Nails From the People's Republic of China, 73 FR 44961 (August 1, 2008) (“Antidumping Duty Order”). On August 27, 2010, pursuant to section 751(a)(2)(B)(i) of the Tariff Act of 1930, as amended (“Act”), and 19 CFR 351.214(c), the Department received a NSR request from Shanghai Colour Nail Co., Ltd. (“Shanghai Colour”). Shanghai Colour's request was properly made during August 2010, which is the annual anniversary of the Antidumping Duty Order. Shanghai Colour certified that it is the exporter and Wuxi Colour Nail Co., Ltd. (“Wuxi Colour”) is the manufacturer of the subject merchandise upon which the request was based. Shanghai Colour also submitted a public version, which adequately summarized proprietary information and provided explanations as to why certain proprietary information is not capable of summarization.

Pursuant to section 751(a)(2)(B)(i)(I) of the Act and 19 CFR 351.214(b)(2)(ii), Shanghai Colour certified that it did not export steel nails to the United States during the period of investigation (“POI”); and Shanghai Colour provided a certification from Wuxi Colour that it did not export subject merchandise to the United States during the POI. In addition, pursuant to section 751(a)(2)(B)(i)(II) of the Act and 19 CFR 351.214(b)(2)(iii)(A), Shanghai Colour certified that, since the initiation of the investigation, it has never been affiliated with any Chinese exporter or producer who exported steel nails to the United States during the POI, including those not individually examined during the investigation. As required by 19 CFR 351.214(b)(2)(iii)(B), Shanghai Colour also certified that its export activities were not controlled by the central government of the PRC.

In addition to the certifications described above, pursuant to 19 CFR 351.214(b)(2)(iv), Shanghai Colour submitted documentation establishing the following: (1) the date on which Shanghai Colour first shipped steel nails for export to the United States and the date on which the steel nails were first entered, or withdrawn from warehouse, for consumption; (2) the volume of its first shipment; and (3) the date of its first sale to an unaffiliated customer in the United States.

The Department conducted U.S. Customs and Border Protection (“CBP”) database queries in an attempt to confirm that Shanghai Colour's shipments of subject merchandise had entered the United States for consumption and that liquidation of such entries had been properly suspended for antidumping duties. The Department also examined whether the CBP data confirmed that such entries were made during the NSR POR. The information we examined was consistent with that provided by Shanghai Colour.

Period of Review

In accordance with 19 CFR 351.214(g)(1)(i)(A), the POR for a new shipper review initiated in the month immediately following the anniversary month will be the twelve-month period immediately preceding the anniversary month. Therefore, under this order, the POR is August 1, 2009, through July 31, 2010. The sales and entries into the United States of subject merchandise exported by Shanghai Colour and produced by Wuxi Colour occurred during this twelve-month POR. Therefore, the POR for this new shipper is August 1, 2009, through July 31, 2010.

Initiation of New Shipper Reviews

Pursuant to section 751(a)(2)(B) of the Act and 19 CFR 351.214, the Department finds that Shanghai Colour meets the threshold requirements for initiation of a NSR for the shipment of steel nails from the PRC produced by Wuxi Colour and exported by Shanghai Colour. See “Memorandum to the File From Emeka Chukwudebe, Case Analyst, New Shipper Initiation Checklist: Certain Steel Nails from the People's Republic of China (A-570-909),” dated concurrently with this notice.

The Department intends to issue the preliminary results of this NSR no later than 180 days from the date of initiation, and the final results no later than 90 days from the issuance of the preliminary determination. See section 751(a)(2)(B)(iv) of the Act.

It is the Department's usual practice, in cases involving non-market economies, to require that a company seeking to establish eligibility for an antidumping duty rate separate from the country-wide rate provide evidence of de jure and de facto absence of government control over the company's export activities. Accordingly, we will issue a questionnaire to Shanghai Colour which will include a section requesting information with regard to Shanghai Colour's export activities for separate rates purposes. The review will proceed if the response provides sufficient indication that Shanghai Colour is not subject to either de jure or de facto government control with respect to its export of subject merchandise.

We will instruct CBP to allow, at the option of the importer, the posting, until the completion of the review, of a bond or security in lieu of a cash deposit for each entry of the subject merchandise from Shanghai Colour in accordance with section 751(a)(2)(B)(iii) of the Act and 19 CFR 351.214(e). Because Shanghai Colour certified that its subject merchandise was produced by Wuxi Colour, we will apply the bonding privilege to Shanghai Colour only for subject merchandise produced by Wuxi Colour.

Interested parties requiring access to proprietary information in this NSR should submit applications for disclosure under administrative protective order in accordance with 19 CFR 351.305 and 19 CFR 351.306. This initiation and notice are in accordance with section 751(a)(2)(B) of the Act and 19 CFR 351.214 and 19 CFR 351.221(c)(1)(i).

Dated: September 28, 2010.
Susan H. Kuhbach,
Acting Deputy Assistant Secretary for Antidumping and Countervailing Duty Operations.

[FR Doc. 2010-24835 Filed 10-1-10; 8:45 am]

BILLING CODE 3510-DS-S